DEPARTMENT OF TRANSPORTATION

Federal Motor Carrier Safety Administration

[Docket No. FMCSA-2006-25756]

Commercial Driver's License (CDL) Standards; Volvo Trucks North America, Renewal of Exemption

AGENCY: Federal Motor Carrier Safety Administration (FMCSA), DOT.

ACTION: Notice of renewal of exemption; request for comments.

SUMMARY: FMCSA renews Volvo Trucks North America's (Volvo) exemption from the Agency's requirement for certain drivers of commercial motor vehicles (CMVs) to hold a commercial driver's license (CDL). Volvo requested that its exemption for eight Swedish engineers and technicians be renewed to enable these individuals to continue test driving CMVs in the United States for Volvo. All of the individuals hold a valid Swedish CDL. FMCSA believes the knowledge and skills testing and training program that drivers must undergo for a Swedish CDL ensures a level of safety that is equivalent to, or greater than, the level of safety that would be obtained by complying with the U.S. requirement for a CDL.

DATES: This decision is effective February 4, 2008. Comments must be received on or before March 5, 2008.

ADDRESSES: You may submit comments identified by Federal Docket Management System Number FMCSA-2006-25756 by any of the following methods:

• Web Site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov at any time or to the ground floor, Room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.regulations.gov.

Public participation: The http://www.regulations.gov Web site is generally available 24 hours each day, 365 days each year. You can get electronic submission and retrieval help and guidelines under the “help” section of the http://www.regulations.gov web site and also at the DOT's http://docketsinfo.dot.gov Web site. If you want us to notify you that we received your comments, please include a self-addressed, stamped envelope or postcard or print the acknowledgement page that appears after submitting comments online.

FOR FURTHER INFORMATION CONTACT: Mr. Richard Clemente, FMCSA Driver and Carrier Operations Division; Office of Bus and Truck Standards and Operations; Telephone: 202-366-4325. E-mail: MCPSD@dot.gov.

SUPPLEMENTARY INFORMATION:

Background

Under 49 U.S.C. 31315 and 31136(e), FMCSA may renew an exemption from the commercial driver's license (CDL) requirements in 49 CFR 383.23 for a maximum 2-year period if it finds “such exemption would likely achieve a level of safety that is equivalent to, or greater than, the level that would be achieved absent such exemption.” The procedures for requesting an exemption (including renewals) are prescribed in 49 CFR part 381. FMCSA evaluated Volvo's application for a renewal on its merits and decided to grant renewal of the exemption for eight of Volvo's engineers and technicians for a 2-year period.

Volvo Application for an Exemption Renewal

Volvo Trucks North America (Volvo) applied for the renewal of an exemption from the commercial driver's licensing rules, specifically 49 CFR 383.23, which establishes licensing requirements for drivers operating commercial motor vehicles (CMVs) in interstate commerce. The exemption was originally granted on May 12, 2006 (71 FR 27780). Volvo is seeking a renewal of this exemption because the drivers it employs are citizens and residents of Sweden, and as such they cannot apply for a CDL from a State in the United States. A copy of the request for a renewal is in the docket identified at the beginning of this notice.

The renewal of the exemption will enable the following drivers to operate CMVs in the U.S. and continue to support Volvo's field tests to meet future clean air standards, to test drive prototype vehicles at their test site, and to deliver the vehicles, if necessary. These are eight of the eleven drivers included in the original exemption: Christer Milding, Jonas Gustafsson, Sten-Ake Sandberg, Daniel Kanebratt, Urban Walter, Fredrik Wattwil, Jonas Nilsson, and Bjorn Nyman.

These drivers are a team of designers, currently employed by Volvo in Sweden, who want to continue driving CMVs in the U.S. to test and evaluate prototype and production CMVs in order to design safe and well-tested vehicles for use on U.S. highways. They are experienced CMV operators with valid Swedish-issued CDLs. It is estimated that each driver would continue to drive approximately 2,500 miles per year on U.S. roads. Because each of the drivers was required to satisfy strict regulations in Sweden to obtain a CDL, and has extensive CMV training and experience, Volvo believes that the renewal of the exemption will continue to achieve a level of safety equivalent to the level of safety that would be obtained absent the exemption.

Method To Ensure an Equivalent or Greater Level of Safety

Drivers applying to obtain a Swedish CDL must take both a knowledge test and skills test before a license to operate CMVs is issued. This process is considered comparable to, or as effective as, the requirements of 49 CFR part 383 and adequately assesses the driver's ability to operate CMVs in the U.S.

Request for Comments

In accordance with 49 U.S.C. 31315(b)(4) and 31136(e), FMCSA requests public comments on the renewal of Volvo's exemption from the requirements of 49 CFR 383.23. The Agency requests that interested parties with specific data concerning the safety records of the drivers listed in this notice submit comments by March 5, 2008. FMCSA will review all comments received by this date and determine whether the renewal of the exemption is consistent with the requirements of 49 U.S.C. 31315 and 31136(e). Comments received after the comment closing date will be filed in the public docket and will be considered to the extent practicable, but FMCSA may make its final decision at any time after the close of the comment period.

FMCSA believes the requirements for a renewal of an exemption under 49 U.S.C. 31315 and 31136(e) can be satisfied by initially granting the renewal and then requesting and subsequently evaluating comments submitted by interested parties. As indicated above, the Agency previously published a notice of final disposition announcing its decision to exempt these eight Volvo drivers from the CDL requirement in 49 CFR 383.23. The decision to renew the exemption for these drivers was based on the merits of each driver's demonstrated knowledge and skills about the safe operation of CMVs, and only after careful consideration of the comments submitted in response to the February 9, 2006 original notice. The notice of application for exemption indicated that detailed information about the qualifications and experience of each of the drivers was provided in Volvo's application and that a copy of the application is in the docket referenced at the beginning of this notice.

Interested parties or organizations possessing information that would otherwise show that any or all of these drivers are not currently achieving the requisite statutory level of safety should immediately notify FMCSA. The Agency will evaluate any adverse information submitted and, if safety is being compromised or if the continuation of the exemption is not consistent with 49 U.S.C. 31315(b)(4) and 31136(e), FMCSA will take immediate steps to revoke the exemption of the driver(s) in question.

Issued on: January 28, 2008.
Larry W. Minor,
Associate Administrator for Policy and Program Development.

[FR Doc. E8-1931 Filed 2-1-08; 8:45 am]

BILLING CODE 4910-EX-P